OFFICE OF PERSONNEL MANAGEMENT

Submission for Renewal: Information Collection 3206-0165; General Request for Investigative Information (INV 40), Investigative Request for Employment Data and Supervisor Information (INV 41), Investigative Request for Personal Information (INV 42), Investigative Request for Educational Registrar and Dean of Students Record Data (INV 43), and Investigative Request for Law Enforcement Data (INV 44)

AGENCY: U.S. Office of Personnel Management.

ACTION: 60-Day Notice and request for comments.

SUMMARY: Federal Investigative Services (FIS), U.S. Office of Personnel Management (OPM) offers the general public and other Federal agencies the opportunity to comment on an information collection request (ICR), Office of Management and Budget (OMB) Control No. 3206-0165, for General Request for Investigative Information (INV 40), Investigative Request for Employment Data and Supervisor Information (INV 41), Investigative Request for Personal Information (INV 42), Investigative Request for Educational Registrar and Dean of Students Record Data (INV 43), and Investigative Request for Law Enforcement Data (INV 44). As required by the Paperwork Reduction Act of 1995, as amended by the Clinger-Cohen Act, OPM is soliciting comments for this collection

DATES: Comments are encouraged and will be accepted until March 31, 2014. This process is conducted in accordance with 5 CFR 1320.1.

ADDRESSES: Interested persons are invited to submit written comments on the proposed information collection to the Federal Investigative Services, U.S. Office of Personnel Management, 1900 E Street NW., Washington, DC 20415, Attention: Donna McLeod or sent by email to FISFormsComments@opm.gov.

FOR FURTHER INFORMATION CONTACT: A copy of this ICR, with applicable supporting documentation, may be obtained by contacting the Federal Investigative Services, U.S. Office of Personnel Management, 1900 E Street NW., Washington, DC 20415, Attention: Donna McLeod or sent by email to FISFormsComments@opm.gov.

SUPPLEMENTARY INFORMATION: As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of the functions of OPM, including whether the information will have practical utility;

2. Evaluate the accuracy of OPM's estimate of the burden of the proposed collection of information, including the validity of the methodology and assumptions used;

3. Enhance the quality, utility, and clarity of the information to be collected; and Minimize the burden of the collection of information on those who are to respond, including through the use of appropriate automated, electronic, mechanical, or other technological collection techniques or other forms of information technology, e.g., permitting electronic submissions of responses.

Section 3(a) of Executive Order (E.O.) 10450, as amended, states that with specified exceptions, “the appointment of each civilian officer or employee in any department or agency of the Government shall be made subject to investigation,” and that “in no event shall the investigation consist of less than a national agency check . . . and written inquiries to appropriate local law enforcement agencies, former employers and supervisors, references, and schools attended by the persons under investigation.” This minimum investigation for appointment in the civil service is called the National Agency Check with Inquiries (NACI).

The INV 40, 41, 42, 43, and 44 are used to conduct the “written inquiries” portion of the NACI. They are also used in any investigation requiring the same written inquiries, including suitability investigations under E.O. 10577, as amended and 5 CFR part 731, for employment in positions defined in 5 CFR 731.101(b); investigations for employment in a sensitive national security position under E.O. 10450, as amended and 5 CFR part 732; certain investigations for eligibility for access to classified information pursuant to standards promulgated under E.O. 12968, as amended; certain investigations for fitness for employment in the excepted service or as a contract employee, pursuant to investigative requirements prescribed by employing and contracting agencies; and investigations for identity credentials for long-term physical and logical access to Federally-controlled facilities and information systems, pursuant to standards promulgated under the Federal Information Security Management Act. The INV forms 40 and 44, in particular, facilitate OPM's access to criminal history record information under 5 U.S.C. 9101.

The content of the INV forms is also designed to meet notice requirements for personnel investigations specified by 5 CFR 736.102(c). These notice requirements apply to any “investigation . . . to determine the suitability, eligibility, or qualifications of individuals for Federal employment, for work on Federal contracts, or for access to classified information or restricted areas.”

None of the forms are used for any purpose other than a personnel background investigation, as described above. The completed forms are maintained by OPM subject to the protections of the Privacy Act of 1974, as amended.

Procedurally, the subject of a personnel background investigation discloses the identity of relevant sources, such as supervisors, coworkers, neighbors, friends, current or former spouses, instructors, relatives, or schools attended, on the standard form (SF) 85, Questionnaire for Non-Sensitive Positions; the SF 85P, Questionnaire for Public Trust Positions; or the SF 86, Questionnaire for National Security Positions. After OPM receives a completed SF 85, SF 85P, or SF 86, the INV forms are distributed in accordance with investigative requirements, to the provided source contacts through an automated mailing operation.

The INV 40 is used to collect records from a Federal or State record repository or a credit bureau. The INV 44 is used to collect law enforcement data from a criminal justice agency. The INV 41, 42, and 43 are sent to employment references, associates, and schools attended. The INV 41, 42, and 43 forms disclose that the source's name was provided by the subject to assist in completing a background investigation to help determine the subject's suitability for employment or security clearance, and request that the source complete the form with information to help in this determination. Generally the subject of the investigation will identify these employment references, associates, and schools on his or her SF 85, SF 85P, or SF 86 questionnaire. However, information omitted on the questionnaire may be provided in a follow-up contact between the subject and an investigator. As indicated by the instructional guidance contained on the INV41, 42, and 43, the forms are not to be sent to employment references, associates, and schools that have not been identified by the subject of the investigation.

Approximately 339,888 INV 40 inquiries are sent to federal and non-federal agencies annually. The INV 40 takes approximately five minutes to complete. The estimated annual burden is 28,324 hours. Approximately 1,910,463 INV 41 inquiries are sent to previous and present employers and supervisors. The INV 41 takes approximately five minutes to complete. The estimated annual burden is 159,205 hours. Approximately 1,636,379 INV 42 inquiries are sent to individuals annually. The INV 42 takes approximately five minutes to complete. The estimated annual burden is 136,365 hours.

Approximately 411,444 INV 43 inquiries are sent to educational institutions annually. The INV 43 takes approximately five minutes to complete. The estimated annual burden is 34,287 hours. Approximately 1,341,526 INV 44 inquiries are sent to law enforcement agencies annually. The INV 44 takes approximately five minutes to complete. The estimated annual burden is 111,794 hours. The total number of respondents for the INV 40, INV 41, INV 42, INV 43, and INV 44 is 5,639,700 and the total estimated burden is 469,975 hours.

OPM proposes modifications to the INV 40, INV 41, INV 42, INV 43 and INV 44. To ensure the collection of distinct information regarding alcohol and/or drugs abuse, response options found on the INV 41, Question 5 and INV 42, Question 7 for `abuse of alcohol and/or drugs' were amended to provide two separate response options, for `abuse of alcohol' and `abuse of drugs'.

The `Financial integrity' option was amended to `finances' to ensure clarity of information requested. The INV 41, Question 2, option c, `discharged because of company cutback in workforce or change in skill need' was amended to `separated because of company cutback in workforce or change in skill needs'; option e, `discharged for unfavorable employment or conduct' was amended to `fired for unfavorable employment or conduct'; and option f, `resigned after informed of possible discharge' was amended to `resigned after informed of possible firing' which aligns verbiage with the standard form questionnaires used to conduct background investigations for public trust and national security positions. The INV 43 title `Investigative Request for Educational Registrar and Dean of Students Record Data' was amended to `Investigative Request for Educational Record Data' to collect any information available from the educational institution beyond the previously noted Registrar or Dean of Students Record. The second page of the INV 40, INV 43 and INV 44 were amended to include `print name'. This change will enhance information collected and align with the collections established on the INV 41 and INV 42. The INV 40, INV 41, INV 43 and INV 44 the `your title' section was amended to `your title/organization' to also enhance information collected.

OMB previously approved the OPM proposal to modify INV forms 40, 41, and 42 to provide instruction to respondents to indicate requests of confidentiality of his or her identity, and to call an office at OPM to receive approval of the request before completing the form. The purpose of this change is to more clearly establish the granting of confidentiality as permitted by the Privacy Act of 1974 and OPM's implementing regulations. Changes were not made to the forms at the time of the approval but will be a part of changes implemented with this renewal.

Katherine Archuleta,
Director, U.S. Office of Personnel Management.

[FR Doc. 2014-01874 Filed 1-28-14; 8:45 am]

BILLING CODE 6325-53-P